DEPARTMENT OF JUSTICE

Antitrust Division

Notice Pursuant to the National Cooperative Research and Production Act of 1993—Open Devicenet Vendor Association, Inc.

Notice is hereby given that, on December 31, 2003, pursuant to Section 6(a) of the National Cooperative Research and Production Act of 1993, 15 U.S.C. 4301 et seq. (“the Act”), Open Devicenet Vendor Association, Inc. has filed written notifications simultaneously with the Attorney General and the Federal Trade Commission disclosing changes in its membership status. The notifications were filed for the purpose of extending the Act's provisions limiting the recovery of antitrust plaintiffs to actual damages under specified circumstances. Specifically, ABB Industrial systems, New Berlin, WI; ABB Welding Systems AB, Laxa, SWEDEN; AC Technology Corp, Uxbridge, MA; ACCU-Sort Systems, Inc., Telford, PA; Advance Electric Company, Inc., Aichi, JAPAN; Advanced Energy Industries, Inc., Ft. Collins, CO; Advanced Energy JAPAN K.K., Tokyo, JAPAN; Aera Corporation, Austin, TX; Alden Products Company, Brockton, MA; Alfa Laval LKM as, Kolding, DENMARK; Alpha Gear Drives, Elk Grove Village, IL; AMC Technologies Corporation, Edmonton, Alberta, CANADA; Ametek Automation & Process Technologies, Clawson, MI; Animatics Corporation, Santa Clara, CA; ANYWIRE CORPORATION, Kyoto, JAPAN; Arlington Laboratory, Burlington, MA; ARO Controls S.A.S., Chateau du Loir, FRANCE; Aros Electronics AB, Molndal, SWEDEN; ASI Advanced Semiconductor Instruments GmbH, Berlin, GERMANY; Auma Actuators Inc., Pittsburgh, PA; Automationdirect.com, Cumming, GA; Autonics Corporation, Kyung-Nam, REPUBLIC OF KOREA; Baldor Electric, Fort Smith, AR; Balogh T.A.G., Corporation, Brighton, MI; Beckhoff Industrie Elektronik, Nurnberg, GERMANY; Bellofram Corp., New Berlin, WI; Beta LaserMike Limited, High Wycombe, Buckinghamshire, UNITED KINGDOM; BF ENTRON Ltd. (British Federal), Dudley, West Midlands, UNITED KINGDOM; BOC Edwards, Eastbourne, East Sussex, UNITED KINGDOM; Bosch Rexroth, Lohr am Main, GERMANY; Bray Controls USA, Houston, TX; Bronkhorst High-Tech B.V., Ruurlo, THE NETHERLANDS; Brooks Automation, Inc., Chelmsford, MA; Brooks Instrument/Div. of Emerson, Hatfield, PA; C&M Corporation, Wauregan, CT; CELERITY, Yorba Linda, CA; Celesco Transducer Products, Inc., Chatsworth, CA; CISCO Systems, Inc., Irvine, CA; CKD Corporation, Aichi, JAPAN; Cognex Corporation, West Allis, WI; Comdel Inc., Gloucester, MA; CommScope, Inc., Claremont, NC, COM TEC, Appleton, WI; Contrex Inc., Maple Grove, MN; Control Logic Inc., Mesa, AZ; Control System Technology Pty. Ltd., Mortdale, New South Wales, AUSTRALIA; Control Techniques PLC, Newtown Powys, UNITED KINGDOM; Control Technology Corporation, Hopkinton, MA; Conxall Corporation Inc., Villa Park, IL; Cosmotechs Co., Ltd., Kanagawa, JAPAN; Crevis Co., LTD, Suwon City Kyung Ki-Do, REPUBLIC OF KOREA; Crouse-Hinds Molded Products, LaGrange, NC; CSIRO Mining Automation, Pullenvale, Queensland, AUSTRALIA; DAIDEN Co., Ltd., Fukuoka, JAPAN; DDK Ltd., Tokyo, JAPAN; Delta Computer Systems Inc., Vancouver, WA; Denker, Onehunga, Auckland, NEW ZEALAND; Deutschmann Automation GmbH, Bad Camberg, GERMANY; Digi International, Inc., Lakeville, MN; Dressler HF—Technik GmbH, Stolberg, GERMANY; DVT Corporation, Norcross, GA; E.O.A. Systems Inc., Carrollton, TX; EBARA Technologies Inc., Sacramento, CA; Edwards Signaling, Cheshire, CT; Eilersen Electric A/S, Kokkedal, DENMARK; Electronic Innovation, Inc.—Falter Engineering, Sudbury, Ontario, CANADA; Electro-Sensors, Inc., Minnetonka, MN; Enercon-Nord Electronic GmbH, Bargteheide, GERMANY; Escort Memory Systems, Scotts Valley, CA; esd electronic system design gmbh, Hanover, GERMANY; EXOR Electronic R&D, Cincinnati, OH; Fairchild Industrial Products Company, Winston-Salem, NC; Fanuc Robotics North America, Inc., Rochester Hills, MI; Fife Corporation, Oklahoma City, OK; Flexible Machine Controls, Wendywood, SOUTH AFRICA; FRABA Sensorsysteme GmbH, Koln, GERMANY; Frontline Test Equipment, Charlottesville, VA; Fuji Electric Co., Ltd., Saitama-ken, JAPAN; Fujikin, Inc., Osaka, JAPAN; GE Fanuc Automation North America, Inc., Charlottesville, VA; Helix Technology Corp., Longmont, CO; Grayhill Inc., La Grange, IL; Hae Pyung Electronics Research Institute, Kyungbuk-do Province, REPUBLIC OF KOREA; HANA Information Technology Co., Ltd., Pusan, REPUBLIC OF KOREA; HAN-MI Co. Ltd., Incheon-City, REPUBLIC OF KOREA; Hardy Instruments, Inc., San Diego, CA; Harting, Inc. NA, Elgin, IL; Hengstler GmbH, Aldingen, GERMANY; Hilscher GmbH, Hattersheim, GERMANY; Hirschmann, Inc, Pine Brook, NJ; Hitachi Cable Ltd., Ibaraki, JAPAN; Hitachi Metals, Ltd., Tokyo, JAPAN; Hitachi Naka Electronics Co. Ltd., Ibaraki-ken, JAPAN; HM Computing Ltd., Malvern, Worcestershire, UNITED KINGDOM; Holec Holland N.V., sc Hengelo, THE NETHERLANDS; Holjeron, Wilsonville, OR; Horiba-STEC Inc., Sunnyvale, CA; Horner Electric, Indianapolis, IN; Hyde Park Electronics, Inc., Dayton, OH; IAI Corporation, Shiizu-city, Shizuoka, JAPAN; ICP Panel-Tec, Inc., Huntsville, AL; ICT-Industrial Communications Technologies, Newburyport, MA; IDEC IZUMI Corporation, Yodogawa Ku, Osaka, JAPAN; IMI Norgren Limited, Littleton, CO; Industrial Network Controls, LLC, Coopersburg, PA; INFICON Holding AG, St. Gallen, SWITZERLAND; Intelligent Motion Systems, Marlborough, CT; InterlinkBT LLC, Plymouth, MN; ISAS—Integrated Switchgear & Sys. Pty. Ltd., Darwin, Northern Territory, AUSTRALIA; IVO GmbH & Co., Villingen-Schwenningen, GERMANY; IXXAT Automation GmbH, Weingarten, GERMANY; JEONGIL INTERCOM CO., LTD, Kyunggi-Do, REPUBLIC OF KOREA; KDT Systems Co., Ltd., Kyungki-Do, REPUBLIC OF KOREA; Kistler-Morse Corporation, Bothell, WA; Koganei Corporation, Tokyo, JAPAN; Kojima Instruments Inc., Tsuzuki-gun Kyoto, JAPAN; Kubler GmbH, VS-Schwennigen, GERMANY; Kuramo Electric Co., Ltd., Fukui-ken, JAPAN; Kuroda Precision Industries Ltd., Kanagawa, JAPAN; Lantronix, Inc., Naperville, IL; Lapp USA, Inc. (Olflex Wire & Cable), Florham Park, NJ; Leine & Linde, Strangnas, SWEDEN; LEONI Special Cables GmbH, Friesoythe, GERMANY; Leybold Vacuum GmbH, Koeln, GERMANY; LG Cable Ltd., Anyang Kyunggi-Do, REPUBLIC OF KOREA; LG Industrial System Co., Ltd., Seoul, REPUBLIC OF KOREA; Lika Electronic SNC, Carre (Vi), ITALY; LINTEC Co., Ltd, Shiga, JAPAN; Livingston & Co., Inc., West Lebanon, NH; M. System Co., Ltd., Yokohama, JAPAN; Madison Cable Corporation, Worcester, MA; Marathon Ltd., Moscow, RUSSIA; Marsh Bellofram-Bellofram PCD Division, Newell, WV; Matric Limited Inc., Seneca, PA; Matsushita Electric Industrial Co., Ltd., Osaka, JAPAN; Max Stegmann GmbH, Donaueschingen, GERMANY; Meidensha Corporation, Shizouka-ken, JAPAN; Mencom Corporation, Gainesville, GA; Mitsubishi Electric Automation, Inc. (MEAU), Vernon Hills, IL; Moeller ElectroniX, Detmold, GERMANY; MTT Company Ltd., Hyogo, JAPAN; Murrelektronik GmbH, Oppenweiler, GERMANY; Nihon Electric Wire & Cable Co., Ltd., Osaka, JAPAN; Nikki Denso Co., Ltd., Chiba, JAPAN; NKE Corporation, Kyoto, JAPAN; Nohken, Inc., Chiyoda-ku, Tokyo, JAPAN; Northwire Inc., Osceola, WI; NSK Corporation, Bloomingdale, IL; NSK Precision Co., Ltd., Kanagawa, JAPAN; NT International, Minneapolis, MN; Omron Software Co., Ltd., Kanagawa, JAPAN; Oriental Motor Company, Chiba, JAPAN; Panduit Corporation, Orland Park, IL; Partlow, Gurnee, IL; POSCON, Seoul, REPUBLIC OF KOREA; Proportion-Air, Inc., McCordsville, IN; Proteus Industries Inc., Mountain View, CA; Pyramid Solutions, Inc., Troy, MI; QUALIFLOW, Montpellier, FRANCE; Real Time Automation (C&ID), Wauwatosa, WI; Real Time Objects & Systems, Brookfield, WI; Red Lion Controls, York, PA; Redwood MicroSystems, Inc., Menlo Park, CA; Rice Lake Weighing Systems, Rice Lake, WI; Riken Keiki Co., Ltd., Tokyo, JAPAN; Rockwell Samsung Automation, Suwon Kyunggi-Do, REPUBLIC OF KOREA; Rotork Controls Ltd., Bath, Avon, UNITED KINGDOM; Sanyo Denki Co., Ltd., Tokyo, JAPAN; Sanyo Machine Works, Ltd., Aichi, JAPAN; Schneider Electric, Seigenatadt, Germany; Scientific Technologies, Inc., Fremont, CA; SEC (Samsung Electronics Co., Ltd.), Suwon-City Kyunggi-Do, REPUBLIC OF KOREA; Seiko Seiki Co., Ltd., Chiba, JAPAN; SEMATECH, Austin, TX; Sense Electronica LTDA, Sao Paulo, BRAZIL; Seoil Electric Co., Ltd., Kyunggi-Do, REPUBLIC OF KOREA; SEW Eurodrive GmbH, Bruchsal, GERMANY; Shanghai Aton Electric Co., Ltd., Shanghai, PEOPLE'S REPUBLIC OF CHINA; Shimaden Co., Ltd., Saitama Prefecture, JAPAN; SHIN HO SYSTEM Co., Ltd., Seo-gu, Inchon, REPUBLIC OF KOREA; SICK AG, Waldkirch, GERMANY; SIEI S.p.A., Gerenzano VA, ITALY; Siemens Energy & Automation, Inc., Johnson City, TN; Sola/Hevi-Duty, Skokie, IL; Stegmann, Inc., Dayton, OH; StoneL Corp., Fergus Hills, MN; SungGi Internet Co., Ltd., Seoul, REPUBLIC OF KOREA; SWAC Automation Consult GmbH, Oberhaching, GERMANY; Syron Engineering & Manufacturing, Inc., Saline, MI; System Controls, Limited, Auckland, NEW ZEALAND; T.B. Wood's Incorporated, Chambersburg, PA; Tang & Associates, Cheras, Selangor, MALAYSIA; The Lincoln Electric Company, Cleveland, OH; The Siemon Company, Watertown, CT; The Stanley Works, Warren, MI; Tokyo Keiso Co., Ltd., Tokyo, JAPAN; Toyo Denki Seizo KK, Yokohama, Kanagawa, JAPAN; TR Controls Electronic, London, Ontario, CANADA; TR Electronic, Troy, MI; Trimble AB, Dayton, OH; TRS Fieldbus Systems Inc., Sterling Heights, MI; TWK Elektronik GmbH, Dusseldorf, GERMANY; UNIPULSE Corporation, Saitama, JAPAN; Vaccon Company, Inc., Medfield, MA; Varian S.p.A., Leini (Torino), ITALY; VIPA GmbH, Herzogenaurach, GERMANY; Watlow Electric Inc., Watsonville, CA; Weidmuller ConneXt Inc., Richmond, VA; West Instruments Limited, Brighton, East Sussex, UNITED KINGDOM; Western Reserve Controls Corp., Akron, OH; Westlock Controls Corp., Saddle Brook, NJ; Wind River Systems, Inc., Sunnyvale, CA; Wittenstein Ternary Co., Ltd., Nagano, JAPAN; Worcester Controls Corporation, Cookeville, TN; YAMAHA Motor Co. Ltd., Shizuoka, JAPAN; Yaskawa Electric America, Inc., Waukegan, IL; and Yokogawa Electric Corp., Tokyo, JAPAN have been added as parties to this venture.

Also, Colorado Flow Tech Inc., Boulder, CO; Danaher Controls, Gurnee, IL; Eurotherm Controls Inc, Reston, VA; Fugasity, Allen, TX; GSE Scale Systems, Novi, MI; Kimura Electric Co., Ltd., Tokyo, JAPAN; Miller Electric Mfg Co., Appleton, WI: Nidec-Shimpo Corp., Kyoto, JAPAN; Particle Measuring Systems, Inc., Boulder, CO; Scientific Instruments, Inc., West Palm Beach, FL; Sumitomo Wiring Systems, Ltd., Mie-ken, JAPAN; Wieland Electric, Inc., Burgaw, NC; Lam Research Corp., Fremont, CA; MTL Inc., Hampton, NH; Nihon Weidmuller Co., Ltd., Tokyo, JAPAN; Schrader Bellows, Cuyahoga Falls, OH; Geneer Corporation, Des Plaines, IL; Event Technologies, Inc., Hales Corners, WI; International Motion Controls Corp., West Chicago, IL; NemaSoft, Ann Arbor, MI; Ten X Technology, Inc., Austin, TX; Unico, Inc., Franksville, WI; Unitrode, Merrimack, NH; Accu-Trol, Inc., Troy, MI; ACS Electronics Ltd., Migdal Haemek, ISRAEL; Advance Hivolt, Bognor Regis, West Sussex, UNITED KINGDOM; Advance International Group, Oxford, Oxfordshire, UNITED KINGDOM; Alpha Products, Inc., Oxnard, CA; Atlas Copco Controls SA, Vaud, SWITZERLAND; Automation Controls, Campbell, CA; BUSWARE Direct, San Diego, CA; ACT'L sa, 1420 Braine-I'Alleud, BELGIUM; Adept Technology, Inc., San Jose, CA; Advantech Co. Ltd., Taipei, TAIWAN; Aera Japan Ltd., Tokyo, JAPAN; Aerotech Inc., Pittsburgh, PA; ALCATEL High Vacuum Technology, Annecy, FRANCE; AMP Incorporated, Harrisburg, PA; APD Cryogenics, Inc., Allentown, PA; Intermagnetics General Corp., Latham, NY; API Controls Inc., Amherst, NY; Applied Precision Inc., Issaquah, WA; Applied Science and Technology, Woburn, MA; Arcom Control Systems Ltd., Cambridge, UNITED KINGDOM; Fairy Group PLC, Egham, Surrey, UNITED KINGDOM; ASAP, Inc., Chagrin Falls, OH; Athena Controls Incorporated, Plymouth Meeting, PA; Inductotherm Industries, Rancocas, NJ; Automation Controls, Campbell, CA; Azonix Corporation, Billerica, MA; B/E Semi TCU, Anaheim, CA; Balzers und Leybold Holding, Koeln, GERMANY; Bay Pneumatic, Inc., Menlo Park, CA; Binar Elektronik AB, Trollhattan, SWEDEN; BLH Electronics Inc., Canton, MA; Brooks Automation Canada, Richmond, Quebec, CANADA; Burkert Contromatic, Irvine, CA; Christian-Buerkert Str 13-17, Ingelfingen, GERMANY; Clippard Instrument Laboratory, Cincinnati, OH; Controlware Technologies, Mayfield Heights, OH; DAIHEN Corporation, Osaka-City, JAPAN; Deltron Inc., North Wales, PA; Digital Freedom, Dayton, OH; Freedom Electric Custom Controls and Designing, Inc., Dayton, OH; Dillmann & Simmler Engineering GmbH, Ebenweiler, GERMANY; ECT International, Inc., Brookfield, WI; Emerson Electric, Clayton, MO; EMS Inc., Cincinnati, OH; ENI Products, Rochester, NY; Entrelec Inc., Irving, TX; Entrellec Group, Lyon, FRANCE; Extron Co., Golden Valley, MN; Exxact. GmbH, Huckelhoven, GERMANY; FASE Saldatura S.R.L., Stupinigi (Torino), ITALY; Ferran Scientific Inc., San Diego, CA; FTS Systems, Inc., Stone Ridge, NY; Protean plc, High Wycombe, Buckingham, UNITED KINGDOM; GE ED&C, Plainville, CT; GE Company, Fairielo, CT; Gestra GmbH, Bremen, GERMANY; Siebe plc, Windsor, Berkshire, UNITED KINGDOM; Graco, Inc., Plymouth, MI; Hewlett-Packard, San Jose, CA; High Yield Technology, Sunnyvale, CA; Pacific Scientific, Newport Beach, CA; Hokuyo Electric Co. Ltd., Osaka, JAPAN; Humphrey Products, Kalamazoo, MI; IDEACOD-Hohner AUTOMATION S.A., Strasbourg Dedex, FRANCE; ifm efector, inc., Exton, PA; IFM electronic, Essen, GERMANY; Ingersoll Rand (ARO) Fluid Power, Bryan, OH; Inst fuer elekt Messtechnik and Grundlagen der Ele, Braunschweig, GERMANY; insyte inc., Tampa, FL; Intellution, Norwood, MA; KASHIYAMA Industries, Ltd., Nagano, JAPAN; Kistler-Morse Corporation, Bothell, WA; Danaher Corp., Washington, D.C.; Kollmorgen Industrial Drives, Radford, VA; Kollmorgan Corporation, Waltham, MA; KUKA Roboter GmbH, Augsburg, GERMANY; KVASER AB, Kinnahult, SWEDEN; Lucas Signatone Corporation, Sunnyvale, CA; Lutze, Inc., Charlotte, NC; Magnetek, New Berlin, WI; Mannesmann Rexroth/Pneumatic Div, Lexington, KY; Mannesmann AG, Dusseldorf, GERMANY; Medar, Inc., Farmington Hills, MI; Montrose/CDT, Auburn, MA; Cable Design Technologies, Pittsburgh, PA; Moog Inc., East Aurora, NY; Motion Engineering, Inc., Santa Barbara, CA; N.S.I. Sa; Crangevrier, FRANCE; Namco Controls Corp., Highland Heights, OH; Cleveland Corp Inc., Pepper Pike, OH; Negretti Automation Ltd., Aylesbury, UNITED KINGDOM; National Instruments, Austin, TX; NESLAB Instruments, Inc., Newington, NH; Thermo Spectra, Waltham, MA; Nordson Corporation, Norcross, GA; North America Mfg., Cleveland, OH; O.G. Line S.A., Saint Genis Laval, FRANCE; ObjectAutomation, Santa Ana, CA; Olflex Wire & Cable, Inc., Fairfield, NJ; U.I. Lapp Gmbh & Co KG, Stuttgart, GERMANY; ORMEC Systems Corp., Rochester, NY; PanelWorks LLC, Wauwatosa, WI; Real Time Automation, Wauwatosa, WI; Patriot Sensors & Controls, Clawson, MI; Control Holding Company, Clawson, MI; PCD Inc., Peabody, MA; Peak-Service GmbH, Darmstadt, GERMANY; Pfeiffer Vacuum Technology Inc., Nashua, NH; Pfeiffer Vaccm Ag, Asslar, GERMANY; Phasetronics, Inc., Clearwater, FL; Quin Systems Ltd., Workingham, UNITED KINGDOM; RadiSys Corporation, Hillsboro, OR; RBB Systems, Inc., Shreve, OH; Rexroth Corporation/Indramat Div., Hoffman Estates, IL; Mannesmann AG, Dusseldorf, GERMANY; RF Power Products, Voorhees, NJ; Robicon, New Kensington PA; High Voltage Engineering, Wakefield, MA; Robotron Corporation, Southfield, MI; Rockwell Automation/DODGE, Greenville, SC; Rockwell International Corp., Seal Beach, CA; Rockwell Automation/Reliance Elec., Cleveland, OH; Rockwell International Corp., Seal Beach, CA; SAM Research Co., Ltd., Mie Ken, JAPAN; Hitachi Metals Ltd., Tokyo, JAPAN; SBS GreenSpring Modular I/O, Menlo Park, CA; SBS Technology Inc., Albuquerque, NM; Schneider Automation, Inc., North Andover, MA; Groupe Schneider SA, Cedex, FRANCE; Seiberco Inc., Braintree, MA; Origntal Motor USA Corp, Torrance, CA; Sencon Inc., Bedford Park, IL; Spellman High Voltage Electronics Corp., Hauppauge, NY; STEC INSTRUMENTS, INC., Sunnyvale, CA; Steeplechase Software, Inc., Ann Arbor, MI; Sterling Controls, Sterling, IL; Prater Industries Inc., Cicero, IL; Synergetic Micro Systems Inc., Downers Grove, IL; The Oilgear Company, Milwaukee, WI; The Partlow-West Company, New Hartford, NY; The Danaher Corp., Washington, DC; Think & Do Software, Inc., Ann Arbor, MI; Tokyo Electron America, Austin, TX; Total Control Products, Melrose Park, IL; TRANSCELL Technology Inc., Northbrook, IL; Travis Technologies Corp., Austin, TX; Trumeter Company Limited, Radcliffe, Manchester, UNITED KINGDOM; Turck, Inc., Plymouth, MN; Tyco Valves & Controls/Keystone, Houston, TX; Keystone International, Houston, TX; Unit Instruments, Inc., Yorba Linda, CA; Varian Vacuum Products, Lexington, MA; Varian Associates, Palo Alto, CA; VAT Vakuumventile AG, Haag, SWITZERLAND; VBLogic, Inc., Midland, NC; VG Gas Analysis Systems Inc., Beverly, MA; VMIC, Huntsville, AL; Warwick Manufacturing Group, Coventry, West Midlands, UNITED KINGDOM; University of Warwick, Coventry, West Midlands, UNITED KINGDOM; Watkins-Johnson Company, Scotts Valley, CA; Weltronics/Technitron Corp., Carol Stream, IL; Whedco, Inc., Ann Arbor, MI; Xycom, Inc., Saline, MI; Hubbell Wiring Device Kellems, Milford, CT; Hubbell Incorporated, Orange, CT; Teknic Inc., Rochester, NY; Integrated Control Technology, N. Andover, MA; and Toshiba International Corp., Houston, TX have been dropped as parties to this venture.

The following members have changed their names: ABB Robotics Products AB to ABB Automation Technology Products AB/Robotics, Vasteras, SWEDEN; Allen-Bradley Company, Inc. to Rockwell Automation/Allen-Bradley, Mayfield Heights, OH; Uticor Technology, Inc. to AVG Automation, Bettendorf, IA; Kollmorgen Industrial Drives to Danaher Motion, Radford, VA; HMS Fieldbus Systems AB to HMS Industrial Networks AB, Halmstad, SWEDEN; Hohner Shaft Encoder Corp. to Hohner Corp., Beamsville, Ontario, CANADA; D.I.P. Inc. to MKS Instruments, CIT Group, Austin, TX; S-S Technologies, Inc. to SST Division of Woodhead CANADA, Waterloo, Ontario, CANADA; Millipore Microelectronics Div/Tylan General to Mykrolis Corporation, Allen, TX; Molex Industrial Interfaces, Inc. to Molex Incorporated, Gilford, NH.

No other changes have been made in either the membership or planned activity of the group research project. Membership in this group research project remains open, and Open Devicenet Vendor Association, Inc. intends to file additional written notification disclosing all changes in membership.

On June 21, 1995, open Devicenet Vendor Association, Inc. filed its original notification pursuant to section 6(a) of the Act. The Department of Justice published a notice in the Federal Register pursuant to section 6(b) of the Act on February 15, 1996 (61 FR 6039).

The last notification was filed with the Department on May 28, 1996. A notice was published in the Federal Register pursuant to section 6(b) of the Act on June 20, 1996 (61 FR 31551).

Dorothy B. Fountain,
Deputy Director of Operations, Antitrust Division.

[FR Doc. 04-3987 Filed 2-23-04; 8:45 am]

BILLING CODE 4410-11-M